DEPARTMENT OF TRANSPORTATION

Federal Aviation Administration

14 CFR Part 39

[Docket No. FAA-2004-18603; Directorate Identifier 2003-NM-14-AD; Amendment 39-13850; AD 2004-22-22]

RIN 2120-AA64

Airworthiness Directives; Airbus Model A310 Series Airplanes; and Model A300 B4-600, B4-600R, and F4-600R Series Airplanes; and Model C4-605R Variant F Airplanes (Collectively Called A300-600)

AGENCY: Federal Aviation Administration (FAA), DOT.

ACTION: Final rule.

SUMMARY: The FAA is superseding an existing airworthiness directive (AD), which applies to certain Airbus Model A310 series airplanes; and Model A300 B4-600, B4-600R, and F4-600R series airplanes; and Model C4-605R Variant F airplanes (collectively called A300-600). That AD currently requires modifying the ram air turbine (RAT) by replacing the ejection jack. This new AD requires a one-time inspection of the RAT ejection jack to determine the part number, and further investigative and corrective actions if necessary. This AD is prompted by the discovery of a rupture in the housing of one of the RAT ejection jacks installed as specified in the existing AD. We are issuing this AD to prevent rupture of the housing of the RAT ejection jack due to overpressure in the jack caused by overfilling the hydraulic fluid, and consequent failure of the RAT ejection jack. Failure of the ejection jack could result in a lack of hydraulic pressure or electrical power in an emergency.

DATES: This AD becomes effective December 14, 2004.

The incorporation by reference of certain publications listed in the AD is approved by the Director of the Federal Register as of December 14, 2004.

The incorporation by reference of certain other publications listed in the AD was approved previously by the Director of the Federal Register on August 6, 2001 (66 FR 34798, July 2, 2001).

ADDRESSES: For service information identified in this AD, contact Airbus, 1 Rond Point Maurice Bellonte, 31707 Blagnac Cedex, France. You can examine this information at the National Archives and Records Administration (NARA). For information on the availability of this material at NARA, call (202) 741-6030, or go to: http://www.archives.gov/federal_register/code_of_federal_regulations/ibr_locations.html.

You can examine the contents of this AD docket on the Internet at http://dms.dot.gov, or at the Docket Management Facility, U.S. Department of Transportation, 400 Seventh Street, SW., room PL-401, on the plaza level of the Nassif Building, Washington, DC.

FOR FURTHER INFORMATION CONTACT: Technical information: Dan Rodina, Aerospace Engineer; International Branch, ANM-116, FAA, Transport Airplane Directorate, 1601 Lind Avenue, SW., Renton, Washington 98055-4056; telephone (425) 227-2125; fax (425) 227-1149.

Plain language information: Marcia Walters, marcia.walters@faa.gov.

Examining the Docket

The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

SUPPLEMENTARY INFORMATION: The FAA proposed to amend part 39 of the Federal Aviation Regulations (14 CFR Part 39) with an AD to supersede AD 2001-13-16, amendment 39-12297, (66 FR 34798, July 2, 2001). The existing AD applies to certain Airbus Model A310 series airplanes; and Model A300 B4-600, B4-600R, and F4-600R series airplanes; and Model C4-605R Variant F airplanes (collectively called A300-600). The proposed AD was published in the Federal Register on July 15, 2004 (69 FR 42363), to require a one-time inspection of the RAT ejection jack to determine the part number, and further investigative and corrective actions if necessary.

Comments

We provided the public the opportunity to participate in the development of this AD. No comments have been submitted on the proposed AD or on the determination of the cost to the public.

Explanation of Change to Applicability

We have revised the applicability of the AD to identify model designations as published in the most recent type certificate data sheet for the affected models.

Conclusion

We have carefully reviewed the available data and determined that air safety and the public interest require adopting the AD with the change described previously. We have determined that this change will neither increase the economic burden on any operator nor increase the scope of the AD.

Costs of Compliance

AD 2001-13-16 affects about 117 airplanes of U.S. registry. The actions that are currently required by AD 2001-13-16 and retained in this AD take about 6 work hours per airplane, at an average labor rate of $65 per work hour. There is no charge for required parts. Based on these figures, the estimated cost of the currently required actions for U.S. operators is $45,630, or $390 per airplane.

This AD will affect approximately 149 airplanes of U.S. registry. The new inspection will take about 1 work hour per airplane, at an average labor rate of $65 per work hour. Based on these figures, the estimated cost of the new actions specified in this AD for U.S. operators is $9,685, or $65 per airplane.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2004-22-22 Airbus: Amendment 39-13850. Docket No. FAA-2004-18603; Directorate Identifier 2003-NM-14-AD.

Effective Date

(a) This airworthiness directive (AD) becomes effective December 14, 2004.

Affected ADs

(b) This AD supersedes AD 2001-13-16, amendment 39-12297 (66 FR 34798, July 2, 2001).

Applicability

(c) This AD applies to Airbus Model A310 series airplanes; and Model A300 B4-600, B4-600R, and F4-600R series airplanes; and Model C4-605R Variant F airplanes (collectively called A300-600); certificated in any category; as listed in Airbus Service Bulletin A300-29-6050, Revision 02, dated April 16, 2003; or A310-29-2088, Revision 01, dated February 3, 2003.

Unsafe Condition

(d) This AD was prompted by the discovery of a rupture in the housing of one of the ram air turbine (RAT) ejection jacks installed as specified in the existing AD. We are issuing this AD to prevent rupture of the housing of the RAT ejection jack due to overpressure in the jack caused by overfilling the hydraulic fluid, and consequent failure of the RAT ejection jack. Failure of the ejection jack could result in a lack of hydraulic pressure or electrical power in an emergency.

Compliance

(e) You are responsible for having the actions required by this AD performed within the compliance times specified, unless the actions have already been done.

Requirements of AD 2001-13-16:

Modification

(f) For airplanes on which Airbus Modification 12259 has not been accomplished: Within 34 months after August 6, 2001 (the effective date of AD 2001-13-16, amendment 39-12297), modify the RAT per Airbus Service Bulletin A310-29-2086, Revision 01 (for Model A310 series airplanes), or A300-29-6048, Revision 01 (for Model A300 B4-600, B4-600R, and F4-600R series airplanes; and Model C4-605R Variant F airplanes (collectively called A300-600)), both dated July 12, 2000, as applicable.

Note 1: Modification of the RAT accomplished prior to August 6, 2001, in accordance with Airbus Service Bulletin A310-29-2086 or A300-29-6048, both dated April 6, 2000, as applicable, is considered acceptable for compliance with the action specified in paragraph (f) of this AD.

Parts Installation

(g) As of August 6, 2001, no person may install on any airplane an ejection jack, part number 730820, unless it has been modified per paragraph (f) of this AD.

Note 2: Airbus Service Bulletin A310-29-2086 and A300-29-6048, both Revision 01, refer to Hamilton Sundstrand Service Bulletin No. ERPS03/04EJ-29-1, as an additional source of service information for accomplishment of the modification of the RAT and testing of the modified RAT.

New Requirements of This AD:

Inspection

(h) Within 2,500 flight hours after the effective date of this AD: Inspect the RAT ejection jack to determine the part number (P/N), in accordance with the Accomplishment Instructions of the applicable Airbus service bulletin listed in Table 1 of this AD. If the P/N can be determined and is neither 772652 nor 772654, no further action is required by this paragraph.

Table 1.—Service Information
For this airplane model— | Airbus Service Bulletin—
A300 B4-600, B4-600R, and F4-600R series airplanes; and Model C4-605R Variant F airplanes (collectively called A300-600) | A300-29-6050, Revision 02, dated April 16, 2003.
A310 series airplanes | A310-29-2088, Revision 01, dated February 3, 2003.

Note 3: Airbus Service Bulletins A300-29-6050 and A310-29-2088 refer to Hamilton Sundstrand Service Bulletin ERPS03/04EJ-29-2, dated May 8, 2002, as an additional source of service information for identifying subject RAT ejection jacks and performing the applicable related investigative and corrective actions.

Related Investigative and Corrective Actions (If Necessary)

(i) If the P/N on the RAT ejection jack is either 772652 or 772654, or if the P/N cannot be determined: Before further flight, accomplish all applicable related investigative and corrective actions in accordance with the Accomplishment Instructions of the applicable Airbus service bulletin listed in Table 1 of this AD.

Actions Accomplished Previously

(j) Inspections and related investigative and corrective actions done before the effective date of this AD in accordance with Airbus Service Bulletin A300-29-6050 (for Model A300 B4-600, B4-600R, and F4-600R series airplanes; and Model C4-605R Variant F airplanes (collectively called A300-600)) or A310-29-2088 (for Model A310 series airplanes), both dated July 23, 2002, as applicable, are acceptable for compliance with the corresponding actions required by paragraphs (h) and (i) of this AD.

Alternative Methods of Compliance (AMOCs)

(k) The Manager, International Branch, ANM-116, Transport Airplane Directorate, FAA, has the authority to approve AMOCs for this AD, if requested in accordance with the procedures found in 14 CFR 39.19.

Related Information

(l) French airworthiness directive 2002-638(B), dated December 24, 2002, also addresses the subject of this AD.

Material Incorporated by Reference

(m) You must use the service information that is specified in Table 2 of this AD to perform the actions that are required by this AD, unless the AD specifies otherwise:

Table 2.—Material Incorporated by Reference
Service bulletin | Revision level | Date
Airbus Service Bulletin A300-29-6048 | 01 | July 12, 2000.
Airbus Service Bulletin A300-29-6050, excluding Appendix 01 | 02 | April 16, 2003.
Airbus Service Bulletin A310-29-2086 | 01 | July 12, 2000.
Airbus Service Bulletin A310-29-2088, excluding Appendix 01 | 01 | February 3, 2003.

(1) The Director of the Federal Register approved the incorporation by reference of Airbus Service Bulletin A300-29-6050, Revision 02, excluding Appendix 01, dated April 16, 2003; and Airbus Service Bulletin A310-29-2088, Revision 01, excluding Appendix 01, dated February 3, 2003; in accordance with 5 U.S.C. 552(a) and 1 CFR part 51.

(2) The incorporation by reference of Airbus Service Bulletin A300-29-6048, Revision 01, dated July 12, 2000; and Airbus Service Bulletin A310-29-2086, Revision 01, dated July 12, 2000, was approved previously by the Director of the Federal Register as of August 6, 2001 (66 FR 34798, July 2, 2001).

(3) For copies of the service information, contact Airbus, 1 Rond Point Maurice Bellonte, 31707 Blagnac Cedex, France. For information on the availability of this material at the National Archives and Records Administration (NARA), call (202) 741-6030, or go to http://www.archives.gov/federal_register/code_of_federal_regulations/ibr_locations.html. You may view the AD docket at the Docket Management Facility, U.S. Department of Transportation, 400 Seventh Street, SW., room PL-401, Nassif Building, Washington, DC.

Issued in Renton, Washington, on October 20, 2004.
Kalene C. Yanamura,
Acting Manager, Transport Airplane Directorate, Aircraft Certification Service.

[FR Doc. 04-24628 Filed 11-8-04; 8:45 am]

BILLING CODE 4910-13-P